DEPARTMENT OF TRANSPORTATION

Federal Aviation Administration

14 CFR Part 39

[Docket No. 2001-NM-176-AD]

RIN 2120-AA64

Airworthiness Directives; Bombardier Model CL-600-2B19 Series Airplanes

AGENCY: Federal Aviation Administration, DOT.

ACTION: Notice of proposed rulemaking (NPRM).

SUMMARY: This document proposes the adoption of a new airworthiness directive (AD) that is applicable to certain Bombardier Model CL-600-2B19 series airplanes. This proposal would require, for certain airplanes, a one-time inspection to detect chafing or other damage of the integrated drive generator (IDG) cables and the firewall separators of the pylon, and corrective action if necessary. For other airplanes, this proposal would require identification of the part number of the clamps, and replacement with new clamps if necessary. This action is necessary to prevent electrical arcing between the IDG cables and the firewall separators due to chafing, which could result in an in-flight fire and/or loss of electrical power. This action is intended to address the identified unsafe condition.

DATES: Comments must be received by July 18, 2002.

ADDRESSES: Submit comments in triplicate to the Federal Aviation Administration (FAA), Transport Airplane Directorate, ANM-114, Attention: Rules Docket No. 2001-NM-176-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-176-AD” in the subject line and need not be submitted in triplicate. Comments sent via the Internet as attached electronic files must be formatted in Microsoft Word 97 for Windows or ASCII text.

The service information referenced in the proposed rule may be obtained from Bombardier, Inc., Canadair, Aerospace Group, P.O. Box 6087, Station Centre-ville, Montreal, Quebec H3C 3G9, Canada. This information may be examined at the FAA, Transport Airplane Directorate, 1601 Lind Avenue, SW., Renton, Washington; or at the FAA, New York Aircraft Certification Office, 10 Fifth Street, Third Floor, Valley Stream, New York.

FOR FURTHER INFORMATION CONTACT: Luciano L. Castracane, Aerospace Engineer, Systems and Flight Test Branch, ANE-172, FAA, New York Aircraft Certification Office, 10 Fifth Street, Third Floor, Valley Stream, New York 11581; telephone (516) 256-7535; fax (516) 568-2716.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-176-AD.” The postcard will be date stamped and returned to the commenter.

Availability of NPRMs

Any person may obtain a copy of this NPRM by submitting a request to the FAA, Transport Airplane Directorate, ANM-114, Attention: Rules Docket No. 2001-NM-176-AD, 1601 Lind Avenue, SW., Renton, Washington 98055-4056.

Discussion

Transport Canada Civil Aviation (TCCA), which is the airworthiness authority for Canada, notified the FAA that an unsafe condition may exist on certain Bombardier Model CL-600-2B19 series airplanes. TCCA advises that there have been numerous incidents of chafing of the integrated drive generator (IDG) cables on the firewall separators of the pylon. This condition, if not corrected, could result in electrical arcing between the IDG cables and the firewall separators, and consequent in-flight fire and/or loss of electrical power.

Explanation of Relevant Service Information

The manufacturer has issued Bombardier Alert Service Bulletin A601R-24-091, Revision “C,” dated February 1, 2001, which describes procedures for a one-time visual inspection to detect chafing or damage of the IDG cables from the pylon to its attaching points and the firewall separators in the pylon area, and repair or replacement with new IDG cables if necessary. For airplanes that have already been repaired/modified in accordance with a prior version of the service bulletin, Revision “C” describes procedures for identifying the part number of the IDG clamp, and replacing it with a new clamp having a different part number if necessary. Accomplishment of the actions specified in the service bulletin is intended to adequately address the identified unsafe condition. TCCA classified this service bulletin as mandatory and issued Canadian airworthiness directive CF-2000-17R1, dated October 30, 2000, to ensure the continued airworthiness of these airplanes in Canada.

FAA's Conclusions

This airplane model is manufactured in Canada and is type certificated for operation in the United States under the provisions of section 21.29 of the Federal Aviation Regulations (14 CFR 21.29) and the applicable bilateral airworthiness agreement. Pursuant to this bilateral airworthiness agreement, TCCA has kept the FAA informed of the situation described above. The FAA has examined the findings of TCCA, reviewed all available information, and determined that AD action is necessary for products of this type design that are certificated for operation in the United States.

Explanation of Requirements of Proposed Rule

Since an unsafe condition has been identified that is likely to exist or develop on other airplanes of the same type design registered in the United States, the proposed AD would require, for certain airplanes, a one-time inspection to detect chafing or other damage of the IDG cables and the firewall separators of the pylon, and corrective action if necessary. For other airplanes, this proposal would require identification of the part number of the clamps, and replacement with new clamps if necessary. The inspection, corrective action, and replacement shall be done in accordance with the service bulletin identified previously.

Cost Impact

The FAA estimates that 160 airplanes of U.S. registry would be affected by this proposed AD.

It would take approximately 7 work hours per airplane to accomplish the proposed inspection, at an average labor rate of $60 per work hour. Based on these figures, the cost impact of the proposed AD is estimated to be $420 per airplane.

It would take approximately 1 work hour per airplane to determine the part number of the clamp, at an average labor rate of $60 per work hour. Based on these figures, the cost impact of the proposed AD is estimated to be $60 per airplane.

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Bombardier, Inc. (Formerly Canadair): Docket 2001-NM-176-AD.

Applicability: Model CL-600-2B19 series airplanes, serial numbers 7003 through 7269 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent electrical arcing between the integrated drive generator (IDG) cables and the firewall separators due to IDG cable chafing, which could result in an in-flight fire and/or loss of electrical power, accomplish the following:

Part Number Identification

(a) For airplanes that have been repaired or modified before the effective date of this AD in accordance with Bombardier Alert Service Bulletin A601R-24-091, dated March 9, 2000; Revision A, dated May 10, 2000; or Revision B, dated September 14, 2000: Within 550 flight hours or 2 months after the effective date of this AD, whichever occurs first, determine the part numbers (P/Ns) of the clamps that hold the IDG cables on the left and right pylons.

(1) If the P/N of all clamps is TA121010R14-04: No further action is required by this AD.

(2) If the P/N of any clamp is NOT TA121010R14-04: Before further flight, replace the discrepant clamp with a clamp having P/N TA121010R14-04.

Inspection

(b) For airplanes not identified in paragraph (a) of this AD: Within 550 flight hours or 2 months after the effective date of this AD, whichever occurs first, perform a one-time general visual inspection to detect chafing and other damage of the IDG cables and the firewall separators of the pylon, in accordance with Bombardier Alert Service Bulletin A601R-24-091, Revision “C,” dated February 1, 2001. Prior to further flight thereafter, perform all applicable corrective actions and install a clamp, a conduit, and Teflon strips, in accordance with the alert service bulletin. If a temporary repair is performed, replace the harnesses with new parts within 4,000 flight hours after the repair, in accordance with the alert service bulletin.

Note 2: Accomplishment of an inspection and applicable corrective actions before the effective date of this AD in accordance with Bombardier Service Bulletin A601R-24-091, Revision ‘B,’ dated September 14, 2000, is acceptable for compliance with the requirements of paragraph (b) of this AD.

Note 3: For the purposes of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Spares

(c) As of the effective date of this AD, no person may install an IDG cable clamp, unless it has P/N TA121010R14-04, on any airplane.

Alternative Methods of Compliance

(d) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 4: Information concerning the existence of approved alternative methods of compliance with this AD, if any, may be obtained from the New York ACO.

Special Flight Permits

(e) Special flight permits may be issued in accordance with sections 21.197 and 21.199 of the Federal Aviation Regulations (14 CFR 21.197 and 21.199) to operate the airplane to a location where the requirements of this AD can be accomplished.

Note 5: The subject of this AD is addressed in Canadian airworthiness directive CF-2000-17R1, dated October 30, 2000.

Issued in Renton, Washington, on June 7, 2002.
Ali Bahrami,
Acting Manager, Transport Airplane Directorate, Aircraft Certification Service.

[FR Doc. 02-15243 Filed 6-17-02; 8:45 am]

BILLING CODE 4910-13-P